DEPARTMENT OF COMMERCE

National Oceanic and Atmospheric Administration

Agency Information Collection Activities; Submission to the Office of Management and Budget (OMB) for Review and Approval; Comment Request; Day 8-10 Timeline Forecast Survey and Focus Groups; Correction

AGENCY: National Oceanic & Atmospheric Administration (NOAA), Commerce.

ACTION: Notice of Information Collection, Correction.

SUMMARY: The Department of Commerce, in accordance with the Paperwork Reduction Act of 1995 (PRA), published a notice in the Federal Register on 07/20/2020, 85 FR 43817, to allow for 60 days of public comment preceding submission to OMB for review and approval of the information collection for OMB Control Number 0648-0757. This notice serves as a correction to that Federal Register notice.

FOR FURTHER INFORMATION CONTACT: James A. Nelson, Jr., Development and Training Branch Chief at the Weather Prediction Center, NOAA/NWS/NCEP/WPC, 5830 University Research Court—College Park, MD 20740, (301) 683-1493, james.a.nelson@noaa.gov.

SUPPLEMENTARY INFORMATION:

Correction

National Oceanic & Atmospheric Administration (NOAA) will not be renewing this collection. More accurately, NOAA will submit a request to OMB to discontinue this collection.

Sheleen Dumas,
Department PRA Clearance Officer, Office of the Chief Information Officer, Commerce Department.

[FR Doc. 2020-21631 Filed 9-29-20; 8:45 am]

BILLING CODE 3510-KE-P